DEPARTMENT OF ENERGY

Federal Energy Regulatory Commission

[Docket No. RM13-5-000]

Version 5 Critical Infrastructure Protection Reliability Standards; Supplemental Notice Concerning Post Technical Conference Comments

As announced during the Commission staff convened technical conference held on April 29, 2014 to discuss issues related to Critical Infrastructure Protection Issues Identified in Order No. 791, parties may choose to file post-technical conference comments. Parties wishing to file comments on the matters discussed at the technical conference should do so on the following schedule:

Comments: Due on or before May 21, 2014.

Dated: April 30, 2014.
Kimberly D. Bose,
Secretary.

[FR Doc. 2014-10430 Filed 5-6-14; 8:45 am]

BILLING CODE 6717-01-P